DEPARTMENT OF COMMERCE

International Trade Administration

[A-570-846]

Brake Rotors From the People's Republic of China: Final Results and Partial Rescission of the 2007 Antidumping Duty Administrative Review

AGENCY: Import Administration, International Trade Administration, Department of Commerce.

SUMMARY: On March 20, 2009, the Department of Commerce (the Department) published the preliminary results and partial rescission of the 2007 administrative review of the antidumping duty order on brake rotors from the People's Republic of China covering the period April 1, 2007, through August 13, 2007. No interested party commented on the preliminary results or the partial rescission. We have made no changes to the margin calculations. Therefore, the final results do not differ from the preliminary results. The final weighted-average dumping margins for the reviewed firms are listed below in the section entitled “Final Results of Review.”

DATES: Effective Date: June 2, 2009.

FOR FURTHER INFORMATION CONTACT: Brian Smith or Terre Keaton Stefanova, AD/CVD Operations, Office 2, Import Administration, International Trade Administration, U.S. Department of Commerce, 14th Street and Constitution Avenue, NW., Washington, DC 20230; telephone: (202) 482-1766 or (202) 482-1280, respectively.

SUPPLEMENTARY INFORMATION:

Background

This administrative review of the antidumping duty order on brake rotors from the People's Republic of China (PRC) covers one mandatory respondent (Yantai Winhere Auto-Part Manufacturing Co., Ltd. (Winhere)) and the following 11 respondents not selected for individual review: Laizhou Auto Brake Equipment Co., Ltd. (LABEC); Laizhou Hongda Auto Replacement Parts Co., Ltd. (Laizhou Hongda); Longkou Jinzheng Machinery Co., Ltd. (Jinzheng); Longkou TLC Machinery Co., Ltd. (Longkou TLC); Qingdao Gren (Group) Co. (Gren); Qingdao Meita Automotive Industry Co., Ltd. (Meita); Xianghe Zichen Casting Company, Ltd. (Xianghe Zichen); Zibo Botai Manufacturing Co., Ltd. (Zibo Botai); Laizhou Luda Sedan Fittings Company, Ltd. (Luda); Laizhou Sanli (Sanli); and Zibo Golden Harvest Machinery Limited Company (ZGOLD). We are rescinding this review with respect to China National Automotive Industry Import & Export Corporation or National Automotive Industry Import & Export Corporation (CAIEC) and Shandong Laizhou CAPCO Industry (Laizhou CAPCO). See “Final Partial Rescission of 2007 Administrative Review” section below.

On March 20, 2009, the Department published the preliminary results and partial rescission of this administrative review. See Brake Rotors From the People's Republic of China: Preliminary Results of the 2007 Administrative Review and Partial Rescission, 74 FR 11911 (Preliminary Results). We invited interested parties to comment on the Preliminary Results. Comments were due April 20, 2009, however, no interested party submitted comments. We have conducted this administrative review in accordance with sections 751 and 777(i)(1) of the Tariff Act of 1930, as amended (the Act) and sections 19 CFR 351.213 and 19 CFR 351.221 of the Department's regulations.

Period of Review

The period of review (POR) is April 1, 2007, through August 13, 2007.

Scope of the Order

The products covered by this order are brake rotors made of gray cast iron, whether finished, semifinished, or unfinished, ranging in diameter from 8 to 16 inches (20.32 to 40.64 centimeters) and in weight from 8 to 45 pounds (3.63 to 20.41 kilograms). The size parameters (weight and dimension) of the brake rotors limit their use to the following types of motor vehicles: Automobiles, all-terrain vehicles, vans and recreational vehicles under “one ton and a half,” and light trucks designated as “one ton and a half.”

Finished brake rotors are those that are ready for sale and installation without any further operations. Semi-finished rotors are those on which the surface is not entirely smooth, and have undergone some drilling. Unfinished rotors are those which have undergone some grinding or turning.

These brake rotors are for motor vehicles, and do not contain in the casting a logo of an original equipment manufacturer (OEM) which produces vehicles sold in the United States, (e.g., General Motors, Ford, Chrysler, Honda, Toyota, Volvo). Brake rotors covered in this order are not certified by OEM producers of vehicles sold in the United States. The scope also includes composite brake rotors that are made of gray cast iron, which contain a steel plate, but otherwise meet the above criteria. Excluded from the scope of this order are brake rotors made of gray cast iron, whether finished, semifinished, or unfinished, with a diameter less than 8 inches or greater than 16 inches (less than 20.32 centimeters or greater than 40.64 centimeters) and a weight less than 8 pounds or greater than 45 pounds (less than 3.63 kilograms or greater than 20.41 kilograms).

Brake rotors are currently classifiable under subheading 8708.39.5010 of the Harmonized Tariff Schedule of the United States (HTSUS).¹ Although the HTSUS subheading is provided for convenience and customs purposes, the written description of the scope of this order is dispositive.

¹ As of January 1, 2005, the HTSUS classification for brake rotors (discs) changed from 8708.39.5010 to 8708.39.5030. As of January 1, 2007, the HTSUS classification for brake rotors (discs) changed from 8708.39.5030 to 8708.30.5030. See Harmonized Tariff Schedule of the United States (2007) (Rev. 2), available at www.usitc.gov.

Final Partial Rescission of 2007 Administrative Review

We preliminarily rescinded the review for CAIEC and Laizhou CAPCO because the Department concluded that these companies did not export subject merchandise to the United States during the POR. See Preliminary Results at 74 FR 11914. No interested parties filed comments objecting to our preliminary rescission. Therefore, in accordance with 19 CFR 351.213(d)(3), we are rescinding this administrative review with respect to these companies.

Final Results of Review

We determine that the following antidumping duty margins exist in these final results:

Brake Rotors From the PRC
Individually reviewed exporter 2007 administrative review | Weighted-average percent margin (percent)
Yantai Winhere Auto-Part Manufacturing Co., Ltd | 0.04 (de minimis)
Separate-rate applicant exporters 2007 administrative review | Weighted-average percent margin (percent)
Laizhou Auto Brake Equipment Co., Ltd | 0.04 (de minimis)
Laizhou Hongda Auto Replacement Parts Co., Ltd | 0.04 (de minimis)
Longkou Jinzheng Machinery Co., Ltd | 0.04 (de minimis)
Longkou TLC Machinery Co., Ltd | 0.04 (de minimis)
Qingdao Gren (Group) Co. | 0.04 (de minimis)
Qingdao Meita Automotive Industry Co., Ltd | 0.04 (de minimis)
Xianghe Zichen Casting Company, Ltd | 0.04 (de minimis)
Zibo Botai Manufacturing Co., Ltd | 0.04 (de minimis)
PRC-wide rate | Margin (percent)
PRC-Wide Rate (including Laizhou Luda Sedan Fittings Company, Ltd., Laizhou Sanli and Zibo Golden Harvest Machinery Limited Company) | 43.32

Assessment

Pursuant to section 751(a)(2)(A) of the Act and 19 CFR 351.212(b), the Department will determine, and CBP shall assess, antidumping duties on all appropriate entries. The Department intends to issue assessment instructions to CBP 15 days after the date of publication of these final results of review. In accordance with 19 CFR 351.212(b)(1), for Winhere, we calculated importer (or customer)-specific assessment rates for the merchandise subject to this review. Because we do not have entered values on the record for Winhere's sales, we calculated a per-unit assessment rate by aggregating the antidumping duties due for all U.S. sales to each importer (or customer) and dividing this amount by the total quantity sold to that importer (or customer). See 19 CFR 351.212(b)(1). To determine whether the duty assessment rates are de minimis, in accordance with the requirement set forth in 19 CFR 351.106(c)(1), we calculated importer (or customer)-specific ad valorem ratios based on the estimated entered value. Where an importer (or customer)-specific ad valorem rate is zero or de minimis, we will instruct CBP to liquidate appropriate entries without regard to antidumping duties. See 19 CFR 351.106(c)(2).

As stated in the Preliminary Results, for the companies receiving a separate rate that were not selected for individual review (i.e., Gren, Jinzheng, LABEC, Laizhou Hongda, Longkou TLC, Meita, Xianghe Zichen, and Zibo Botai), we calculated an assessment rate based on the weighted-average margin calculated for Winhere, the only mandatory respondent in this review. As Winhere's margin is de minimis, we will instruct CBP to liquidate appropriate entries without regard to antidumping duties with respect to these companies. See 19 CFR 351.106(c)(2).

With respect to the PRC-wide entity which includes Luda, Sanli and ZGOLD (i.e., the respondents that did not demonstrate their eligibility for separate-rate status), we will instruct CBP to liquidate appropriate entries at the PRC-wide rate of 43.32 percent.

Cash Deposit Requirements

The antidumping duty order on brake rotors from the PRC was revoked effective August 14, 2007. See Brake Rotors From the People's Republic of China: Revocation of Antidumping Duty Order Pursuant to Second Five-Year (Sunset) Review, 73 FR 36039 (June 25, 2008). As a result, we instructed CBP to terminate the suspension of liquidation of entries of the subject merchandise. Therefore, the collection of cash deposits of antidumping duties on entries of the subject merchandise is no longer required.

Notification to Importers

This notice also serves as the final reminder to importers of their responsibility under 19 CFR 351.402(f) to file a certificate regarding the reimbursement of antidumping duties prior to liquidation of the relevant entries during this review period. Failure to comply with this requirement could result in the Secretary's presumption that reimbursement of antidumping duties occurred and in the subsequent assessment of double antidumping duties. This notice also serves as the only reminder to parties subject to administrative protective order (APO) of their responsibility concerning the return or destruction or conversion to judicial protective order of proprietary information disclosed under APO in accordance with 19 CFR 351.305(a)(3). Timely written notification of the return or destruction of APO materials or conversion to judicial protective order is hereby requested. Failure to comply with the regulations and the terms of an APO is a sanctionable violation. This administrative review and this notice are published in accordance with sections 751(a)(1) and 777(i)(1) of the Act.

Dated: May 27, 2009.
Ronald K. Lorentzen,
Acting Assistant Secretary for Import Administration.

[FR Doc. E9-12827 Filed 6-1-09; 8:45 am]

BILLING CODE 3510-DS-P